DEPARTMENT OF AGRICULTURE

Natural Resources Conservation Service

Little Wood River Irrigation District, Gravity Pressurized Irrigation Delivery System, Blaine County, ID

AGENCY: Natural Resources Conservation Service, USDA.

ACTION: Notice of intent to prepare an environmental impact statement.

SUMMARY: Pursuant to Section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is being prepared for a federally assisted proposed project by the Little Wood River Irrigation District, Blaine County, Idaho.

FOR FURTHER INFORMATION CONTACT: Richard Sims, State Conservationist, Natural Resources Conservation Service, 9173 W. Barnes Dr., Suite C, Boise, Idaho, 83709-1574, telephone: 208-378-5700.

SUPPLEMENTARY INFORMATION: The preliminary information of this federally assisted proposed action indicates that the project may cause significant local, regional, or national impacts on the environment. As a result of these findings, Richard Sims, State Conservationist, has determined that the preparation and review of an environmental impact statement is needed for this project.

The Little Wood River Irrigation District objectives include water and energy savings, public safety, and energy generation. The proposed project would convert the open canal irrigation delivery system to a closed, gravity pressurized delivery system and includes a hydroelectric generating facility. Alternatives under consideration to reach these objectives include: No Action, Concrete Lined Canals, Gravity Pressurized Irrigation Delivery System, and Gravity Pressurized Irrigation Delivery System with Hydroelectric Generation.

A draft environmental impact statement will be prepared and circulated for review by agencies and the public. The Natural Resources Conservation Service invites participation and consultation of agencies and individuals that have special expertise, legal jurisdiction, or interest in the preparation of the draft environmental impact statement.

NRCS will hold public scoping meetings in Carey, Idaho, to determine the scope of the evaluation of the proposed action. Further information on the proposed action or future public meetings may be obtained from Richard Sims, State Conservationist, at the above address or telephone 208-378-5700.

Dated: March 11, 2002.
Joyce Swartzendruber,
Acting State Conservationist.

[FR Doc. 02-7787 Filed 3-29-02; 8:45 am]

BILLING CODE 3210-16-P